NUCLEAR REGULATORY COMMISSION

[Docket Nos. 50-348 and 50-364]

Southern Nuclear Operating Company (SNC), Joseph M. Farley Nuclear Plant, Units 1 and 2; Notice of Acceptance for Docketing of the Application Regarding Renewal of Facility Operating License Nos. NPF-2 and NPF-8 for an Additional 20-Year Period

The U.S. Nuclear Regulatory Commission (NRC or the Commission) is considering an application for the renewal of Operating License Nos. NPF-2 and NPF-8, which authorize the Southern Nuclear Operating Company (SNC) to operate Joseph M. Farley Nuclear Plant, Units 1 and 2, at 2775 megawatts thermal. The renewed licenses would authorize the applicant to operate Farley Nuclear Plant, Units 1 and 2, for an additional 20-years beyond the period specified in the current licenses. The current operating licenses for Joseph M. Farley Nuclear Plant, Units 1 and 2, will expire on June 25, 2017, and March 31, 2021, respectively.

On September 15, 2003, the Commission's staff received an application from the SNC, filed pursuant to 10 CFR Part 54, to renew the Operating License Nos. NPF-2 and NPF-8 for Joseph M. Farley Nuclear Plant, Units 1 and 2. A Notice of Receipt and Availability of the license renewal application, “Southern Nuclear Operating Company, Joseph M. Farley Nuclear Plant; Notice of Receipt and Availability of Application for Renewal of Facility Operating License Nos. NPF-2 and NPF-8 for an Additional 20-Year Period,” was published in the Federal Register on October 6, 2003 (68 FR 57715).

The Commission's staff has determined that SNC has submitted information in accordance with 10 CFR 54.19, 54.21, 54.22, 54.23, and 51.53(c) that is sufficiently complete and acceptable for docketing. The current Docket Nos. 50-348 and 50-364 for Operating License Nos. NPF-2 and NPF-8, respectively, will be retained. The Commission's staff will perform a detailed technical review of the application. The docketing of the renewal application does not preclude requesting additional information as the review proceeds, nor does it predict whether the Commission will grant or deny the application.

Before issuance of each requested renewed license, the NRC will have made the findings required by the Atomic Energy Act of 1954, as amended (the Act), and the NRC's rules and regulations. In accordance with 10 CFR 54.29, the NRC will issue a renewed license on the basis of its review if it finds that actions have been identified and have been or will be taken with respect to (1) managing the effects of aging during the period of extended operation on the functionality of structures and components that have been identified as requiring aging management review, and (2) time-limited aging analyses that have been identified as requiring review, such that there is reasonable assurance that the activities authorized by the renewed license will continue to be conducted in accordance with the current licensing basis (CLB), and that any changes made to the plant's CLB comply with the Act and the Commission's regulations.

Additionally, in accordance with 10 CFR 51.95(c), the NRC will prepare an environmental impact statement that is a supplement to the Commission's NUREG-1437, “Generic Environmental Impact Statement for License Renewal of Nuclear Power Plants,” dated May 1996. Pursuant to 10 CFR 51.26, and as part of the environmental scoping process, the staff intends to hold a public scoping meeting. Detailed information regarding this meeting will be included in a future Federal Register notice. The Commission also intends to hold public meetings to discuss the license renewal process and the schedule for conducting the review. The Commission will provide prior notice of these meetings.

Finally, the Commission will announce in a future Federal Register notice, in accordance with the provisions of 10 CFR 2.105, the opportunity to request a hearing and to file a petition for leave to intervene.

Detailed information about the license renewal process can be found under the Nuclear Reactors icon on the NRC's Web page at http://www.nrc.gov/reactors/operating/licensing/renewal.html. A copy of the application to renew the operating licenses for Joseph M. Farley Nuclear Plant, Units 1 and 2, is available for public inspection at the Commission's Public Document Room (PDR), located at One White Flint North, 11555 Rockville Pike (first floor), Rockville, Maryland, 20855-2738, and on the NRC's Web page at http://www.nrc.gov/reactors/operating/licensing/renewal/applications/farley.html while the application is under review. The NRC maintains an Agencywide Documents Access and Management System (ADAMS), which provides text and image files of NRC's public documents. A copy of the application to renew the operating licenses for Joseph M. Farley Nuclear Plant, Units 1 and 2, is also available electronically through the NRC's Electronic Reading Room on the Internet at http://www.nrc.gov/reading-rm/adams.html under ADAMS Accession Number ML032721356. Persons who do not have access to ADAMS, or who encounter problems in accessing the documents located in ADAMS, should contact the NRC Public Document Room (PDR) Reference staff at 1-800-397-4209, 301-415-4737 or by e-mail to pdr@nrc.gov.

The staff has verified that a copy of the license renewal application for the Joseph M. Farley Nuclear Plant, Units 1 and 2, is also available to local residents near the Farley Nuclear Plant at the Houston Love Memorial Library, 212 West Burdeshaw Street, Dothan, Alabama 36303-4421.

Dated at Rockville, Maryland, this 24th day of October 2003.
For the Nuclear Regulatory Commission.
Samson S. Lee,
Acting Program Director, License Renewal and Environmental Impacts Program, Division of Regulatory Improvement Programs, Office of Nuclear Reactor Regulation.

[FR Doc. 03-27332 Filed 10-29-03; 8:45 am]

BILLING CODE 7590-01-P